DEPARTMENT OF AGRICULTURE

Rural Business—Cooperative Service

Inviting Applications for Rural Business Opportunity Grants; Correction

AGENCY: Rural Business—Cooperative Service, USDA.

ACTION: Notice; correction.

SUMMARY: The Rural Business—Cooperative Service published a document in the Federal Register of March 29, 2010, inviting applications for Rural Business Opportunity Grants. The document contained incorrect award information.

FOR FURTHER INFORMATION CONTACT: Andy Jermolowicz, 202-720-8460.

Correction

In the Federal Register of March 29, 2010, in FR Doc. 2010-6860, on page 15410, in the first column, under “Award Information” correct the “Total Funding” amount to read:

Total Funding: $2.48 million.

Dated: March 29, 2010.
Judith A. Canales,
Administrator, Rural Business—Cooperative Service.

[FR Doc. 2010-7566 Filed 4-2-10; 8:45 am]

BILLING CODE 3410-XY-P